DEPARTMENT OF DEFENSE

48 CFR Parts 219 and 226

[DFARS Case 2002-D038]

Defense Federal Acquisition Regulation Supplement; Extension of Contract Goal for Small Disadvantaged Businesses and Certain Institutions of Higher Education

AGENCY: Department of Defense (DoD).

ACTION: Final rule.

SUMMARY: DoD has issued a final rule amending the Defense Federal Acquisition Regulation Supplement (DFARS) to implement Section 816 of the National Defense Authorization Act for Fiscal Year 2003. Section 816 provides for a 3-year extension of the percentage goal for contract awards to small disadvantaged businesses and certain institutions of higher education.

EFFECTIVE DATE: March 31, 2003.

FOR FURTHER INFORMATION CONTACT: Ms. Angelena Moy, Defense Acquisition Regulations Council, OUSD(AT&L)DPAP(DAR), IMD 3C132, 3062 Defense Pentagon, Washington, DC 20301-3062. Telephone (703) 602-1302; facsimile (703) 602-0350. Please cite DFARS Case 2002-D038.

SUPPLEMENTARY INFORMATION:

A. Background

This final rule amends DFARS 219.000 and 226.7000 to implement Section 816 of the National Defense Authorization Act for Fiscal Year 2003 (Pub. L. 107-314). Section 816 amends 10 U.S.C. 2323, which establishes a goal for DoD to award 5 percent of contract and subcontract dollars to small disadvantaged business concerns, historically black colleges and universities, and minority institutions. 10 U.S.C. 2323(k) previously contained a termination date of September 30, 2003. Section 816 extends the termination date to September 30, 2006.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subparts in accordance with 5 U.S.C. 610. Such comments should cite DFARS Case 2002-D038.

C. Paperwork Reduction Act

The Paperwork Reduction Act does not apply because the rule does not impose any information collection requirements that require the approval of the Office of Management and Budget under 44 U.S.C. 3501, et seq.

List of Subjects in 48 CFR Parts 219 and 226

Government procurement.

Michele P. Peterson,
Executive Editor, Defense Acquisition Regulations Council.

Therefore, 48 CFR Parts 219 and 226 are amended as follows:

1. The authority citation for 48 CFR Parts 219 and 226 continues to read as follows:

Authority: 41 U.S.C. 421 and 48 CFR Chapter 1.

PART 219—SMALL BUSINESS PROGRAMS

219.000 [Amended]

2. Section 219.000 is amended in the introductory text by removing “2003” and adding in its place “2006''.

PART 226—OTHER SOCIOECONOMIC PROGRAMS

226.7000 [Amended]

3. Section 226.7000 is amended in paragraphs (a) and (b) by removing “2003” and adding in its place “2006''.

[FR Doc. 03-7529 Filed 3-28-03; 8:45 am]

BILLING CODE 5001-08-P